DEPARTMENT OF HOMELAND SECURITY

Federal Emergency Management Agency

[Docket ID FEMA-2019-0002; Internal Agency Docket No. FEMA-B-1978]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Avondale (19-09-1332X) | The Honorable Kenneth N. Weise, Mayor, City of Avondale, 11465 West Civic Center Drive, Avondale, AZ 85323 | Development & Engineering Services Department, 11465 West Civic Center Drive, Avondale, AZ 85323 | https://msc.fema.gov/portal/advanceSearch | Feb. 28, 2020 | 040058
Maricopa | Unincorporated Areas of Maricopa County (19-09-0243P) | The Honorable Bill Gates, Chairman, Board of Supervisors, Maricopa County, 301 West Jefferson Street, 10th Floor, Phoenix, AZ 85003 | Flood Control District of Maricopa County, 2801 West Durango Street, Phoenix, AZ 85009 | https://msc.fema.gov/portal/advanceSearch | Mar. 6, 2020 | 040037
Maricopa | Unincorporated Areas of Maricopa County (19-09-1332X) | The Honorable Bill Gates, Chairman, Board of Supervisors, Maricopa County, 301 West Jefferson Street, 10th Floor, Phoenix, AZ 85003 | Flood Control District of Maricopa County, 2801 West Durango Street, Phoenix, AZ 85009 | https://msc.fema.gov/portal/advanceSearch | Feb. 28, 2020 | 040037
Mohave | City of Bullhead City (18-09-2079P) | The Honorable Tom Brady, Mayor, City of Bullhead City, 2355 Trane Road, Bullhead City, AZ 86442 | Public Works Department, 2355 Trane Road, Bullhead City, AZ 86442 | https://msc.fema.gov/portal/advanceSearch | Feb. 26, 2020 | 040125
Yavapai | City of Prescott (19-09-1057P) | The Honorable Greg Mengarelli, Mayor, City of Prescott, 201 South Cortez Street, Prescott, AZ 86303 | Public Works Department, 433 North Virginia Street, Prescott, AZ 86301 | https://msc.fema.gov/portal/advanceSearch | Mar. 2, 2020 | 040098
California:
Contra Costa | City of Brentwood (19-09-0148P) | The Honorable Robert Taylor, Mayor, City of Brentwood, 150 City Park Way, Brentwood, CA 94513 | Community Development, Building Division, 150 City Park Way, Brentwood, CA 94513 | https://msc.fema.gov/portal/advanceSearch | Feb. 24, 2020 | 060439
San Bernardino | City of San Bernardino (19-09-2084P) | The Honorable John Valdivia, Mayor, City of San Bernardino, 290 North D Street, San Bernardino, CA 92401 | City Hall, 300 North D Street, San Bernardino, CA 92418 | https://msc.fema.gov/portal/advanceSearch | Feb. 25, 2020 | 060281
Florida: Duval | City of Jacksonville (19-04-4237P) | The Honorable Lenny Curry, Mayor, City of Jacksonville, 117 West Duval Street, Suite 400, Jacksonville, FL 32202 | City Hall, 117 West Duval Street, Jacksonville, FL 32202 | https://msc.fema.gov/portal/advanceSearch | Feb. 19, 2020 | 120077
Illinois:
DuPage | City of West Chicago (19-05-4566P) | The Honorable Ruben Pineda, Mayor, City of West Chicago, 475 Main Street, West Chicago, IL 60185 | City Hall, 475 Main Street, West Chicago, IL 60185 | https://msc.fema.gov/portal/advanceSearch | Mar. 6, 2020 | 170219
DuPage | Unincorporated Areas of DuPage County (19-05-4566P) | The Honorable Dan Cronin, Chairman, DuPage County Board, 421 North County Farm Road, Wheaton, IL 60187 | DuPage County Administration Building, Stormwater Management, 421 North County Farm Road, Wheaton, IL 60187 | https://msc.fema.gov/portal/advanceSearch | Mar. 6, 2020 | 170197
DuPage | Village of Winfield (19-05-4566P) | The Honorable Erik Spande, Village President, Village of Winfield, 27W465 Jewell Road, Winfield, IL 60190 | Village Hall, 27W465 Jewell Road, Winfield, IL 60190 | https://msc.fema.gov/portal/advanceSearch | Mar. 6, 2020 | 170223
Kane | City of Elgin (19-05-0133P) | The Honorable Dave Kaptain, Mayor, City of Elgin, 150 Dexter Court, Elgin, IL 60120 | Public Works Department, Engineering Department, 150 Dexter Court, Elgin, IL 60120 | https://msc.fema.gov/portal/advanceSearch | Feb. 27, 2020 | 170087
Michigan: Bay | Township of Bangor (19-05-2130P) | The Honorable Glenn Rowley, Supervisor, Township of Bangor, Township Hall, 180 State Park Drive, Bay City, MI 48706 | Township Hall, 180 State Park Drive, Bay City, MI 48706 | https://msc.fema.gov/portal/advanceSearch | Feb. 28, 2020 | 260019
Minnesota:
Carver | City of Watertown (19-05-1618P) | The Honorable Steve Washburn, Mayor, City of Watertown, City Hall, 309 Lewis Avenue South, Watertown, MN 55388 | City Hall, 309 Lewis Avenue South, Watertown, MN 55388 | https://msc.fema.gov/portal/advanceSearch | Mar. 6, 2020 | 270056
Carver | Unincorporated Areas of Carver County (19-05-1618P) | The Honorable Randy Maluchnik, Board Chairman, Carver County, 600 East 4th Street, Chaska, MN 55318 | Carver County Public Health and Environment, 600 East 4th Street, Chaska, MN 55318 | https://msc.fema.gov/portal/advanceSearch | Mar. 6, 202 | 270049
Nevada:
Clark | Unincorporated Areas of Clark County (19-09-1583P) | The Honorable Marilyn Kirkpatrick, Chair, Board of Commissioners, Clark County, 500 South Grand Central Parkway, 6th Floor, Las Vegas, NV 89106 | Clark County, Office of the Director of Public Works, 500 South Grand Central Parkway, 2nd Floor, Las Vegas, NV 89155 | https://msc.fema.gov/portal/advanceSearch | Feb. 21, 2020 | 320003
Washoe | City of Reno (19-09-0750P) | The Honorable Hillary Schieve, Mayor, City of Reno, P.O. Box 1900, Reno, NV 89505 | City Hall, 1 East 1st Street, Reno, NV 89501 | https://msc.fema.gov/portal/advanceSearch | Mar. 2, 2020 | 320020
Washoe | Unincorporated Areas of Washoe County (19-09-0750P) | The Honorable Vaughn Hartung, Chairman, Board of Commissioners, Washoe County, 1001 East 9th Street, Reno, NV 89512 | Washoe County Administration Building, Department of Public Works, 1001 East 9th Street, Reno, NV 89512 | https://msc.fema.gov/portal/advanceSearch | Mar. 2, 2020 | 320019
New Jersey:
Middlesex | Township of Woodbridge (19-02-1082P) | The Honorable John E. McCormac, Mayor, Township of Woodbridge, Township Municipal Building, 1 Main Street, Woodbridge, NJ 07095 | Township Municipal Building, 1 Main Street, Woodbridge, NJ 07095 | https://msc.fema.gov/portal/advanceSearch | Mar. 4, 2020
Morris | Town of Dover (19-02-0681P) | The Honorable James P. Dodd, Mayor, Town of Dover, 37 North Sussex Street, Dover, NJ 07801 | Engineering Department, 100 Princeton Avenue, Dover, NJ 07801 | https://msc.fema.gov/portal/advanceSearch | Feb. 7, 2020 | 340340
Texas:
Dallas | City of Dallas (19-06-1433P) | The Honorable Eric Johnson, Mayor, City of Dallas, 1500 Marilla Street, Room 5EN, Dallas, TX 75201 | Trinity Watershed Management Department, Floodplain and Drainage Management, 320 East Jefferson Boulevard, Room 307, Dallas, TX 75203 | https://msc.fema.gov/portal/advanceSearch | Feb. 26, 2020 | 480171
Tarrant | City of Fort Worth (19-06-2078P) | The Honorable Betsy Price, Mayor, City of Fort Worth, 200 Texas Street, Fort Worth, TX 76102 | Department of Transportation and Public Works, 200 Texas Street, Fort Worth, TX 76102 | https://msc.fema.gov/portal/advanceSearch | Feb. 21, 2020 | 480596
Tarrant | City of Richland Hills (19-06-2078P) | The Honorable Edward Lopez, Mayor, City of Richland Hills, 3200 Diana Drive, Richland Hills, TX 76118 | City Hall, 3200 Diana Drive, Richland Hills, TX 76118 | https://msc.fema.gov/portal/advanceSearch | Feb. 21, 2020 | 480608
Wisconsin:
Brown | Village of Ashwaubenon (19-05-1474P) | The Honorable Mary Kardoskee, Village President, Village of Ashwaubenon, 2410 South Ridge Road, Green Bay, WI 54304 | Village Hall, 2155 Holmgren Way Ashwaubenon, WI 54304 | https://msc.fema.gov/portal/advanceSearch | Feb. 24, 2020 | 550600
Brown | Unincorporated Areas of Brown County (19-05-1474P) | The Honorable Patrick Moynihan Jr., Board Chairman, Brown County, 305 East Walnut Street, Green Bay, WI 54305 | Brown County Zoning Office, 305 East Walnut Street, Green Bay, WI 54301 | https://msc.fema.gov/portal/advanceSearch | Feb. 24, 2020 | 550020
Ozaukee | Village of Thiensville (19-05-4351X) | The Honorable Van A. Mobley, President, Village of Thiensville Board, Village Hall, 250 Elm Street, Thiensville, WI 53092 | Village Hall, 250 Elm Street, Thiensville, WI 53092 | https://msc.fema.gov/portal/advanceSearch | Feb. 21, 2020 | 550318

[FR Doc. 2019-26421 Filed 12-6-19; 8:45 am]

BILLING CODE 9110-12-P